DEPARTMENT OF TRANSPORTATION

Federal Railroad Administration

[Docket Number FRA-2006-24812]

Petition for Waiver of Compliance

In accordance with Part 211 of Title 49 Code of Federal Regulations (CFR), this document provides the public notice that by a document dated July 27, 2011, BNSF Railway (BNSF) has petitioned the Federal Railroad Administration (FRA) for a waiver of compliance from certain requirements of Federal railroad safety regulations contained at 49 CFR part 232. FRA has assigned the petition Docket Number 2006-24812.

BNSF seeks a waiver of compliance from certain provisions of 49 CFR part 232, Brake System Safety Standards for Freight and Other Non-Passenger Trains and Equipment. Specifically, BNSF is requesting to expand the scope of the existing waiver that granted relief from the maximum mileage and inspection requirements specified by 49 CFR 232.213, Extended haul trains. BNSF would like to perform the 1,500-mile extended haul inspection for two designated trains at points that slightly exceed the 1,500-mile limit. The two destination points are Kansas City Power and Light (KCP&L); Iatan Generating Plant in Sadler, MO; and Dynegy, Hennepin Plant in Havanna, IL. The origination points are various coal mines in the Powder River Basin that would exceed the 1,500-mile Class 1 inspection limit between 30.8 and 103.2 miles. Also, BNSF would like to realign the inspection points. Some inspections normally performed at Lincoln, NE, may be reduced on the Dynegy trains by shifting inspections to Guernsey, WY. Also, KCP&L train inspections may be shifted to Guernsey or Donkey Creek, WY, from Lincoln, NE.

Given the increased demand for coal by the utility industry, BNSF believes that granting this relief is critical to relieving congestion at Lincoln, NE, while maintaining high-quality inspections; and the railroad believes this will not compromise railroad safety. The following trains are covered by the requested relief: E-SAIATM, E-SAIBAM, E-SAIBTM, E-SAICAM, E-SAICDM, E-SAICRM, E-SAIWTM, C-ATMPHH, C-BTMPHH, C-ETMPHH, and C-NAMPHH.

In summary, BNSF respectfully requests that these trains be granted inclusion in FRA Waiver 2006-24812, which was established to resolve congestion issues in 2006. In the 4 years that these trains have been operating under the current waiver, there has been no adverse impact to safety. Since the trains covered by this request operate the very same type of equipment, there is no anticipated deviation from the current high level of safety.

BNSF states that it will provide both mechanical and operating forces with the list of trains allowed to operate past the 1,500-mile threshold. Additionally, BNSF would maintain records of defective conditions discovered during inspections, as currently required, including any defective equipment set out en route.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received by October 14, 2011 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78) or online at http://www.dot.gov/privacy.html.

Issued in Washington, DC, on August 24, 2011.
Robert C. Lauby,
Deputy Associate Administrator for Regulatory and Legislative Operations.

[FR Doc. 2011-22059 Filed 8-29-11; 8:45 am]

BILLING CODE 4910-06-P